DEPARTMENT OF HEALTH AND HUMAN SERVICES

Health Resources and Services Administration

Announcement of Grant Awards

AGENCY: Health Resources and Services Administration (HRSA), HHS.

ACTION: Announcement of grant awards.

SUMMARY: The Office of Rural Health Policy (ORHP), HRSA is awarding the following grants to the State Offices of Rural Health (SORH), as authorized by Section 338J of the Public Health Service Act 42 U.S.C. 254r. The purpose of this notice is to announce the grant awards. The grant year began on July 1, 2003.

State Office of Rural Health Awards (CFDA# 93.913). These grants allow each State to designate a focal point of contact for rural health. They also play a vital role in helping coordinate rural health activities statewide such as collecting and disseminating health-related information within the State, improving the recruitment and retention of health professionals into rural areas, providing technical assistance to attract more Federal, State, and foundation funding, and coordinating rural health interests and activities across each State.

The following grantees have received awards for the first year of a 5-year project period.

• Alabama Department of Public Health; $150,000;

• Alaska Department of Health and Social Services; $150,000;

• Arizona Prevention Center, Office of Rural Health; $150,000;

• Arkansas Department of Health; $150,000;

• California Department of Health Services; $150,000;

• Colorado Rural Health Center; $150,000;

• Connecticut Community College Northwestern; $150,000;

• Delaware Department of Health and Social Services; $108,000;

• Florida Department of Health; $150,000;

• Georgia Department of Community Health, $150,000;

• Hawaii State Department of Health; $150,000;

• Idaho Department of Health and Welfare; $147,418;

• Illinois Department of Public Health; $150,000;

• Indiana State Department of Health; $150,000;

• Iowa Department of Public Health; $150,000;

• Kansas Department of Health and Environment; $150,000;

• Kentucky Research Foundation, University of Kentucky; $150,000;

• Louisiana Department of Health and Hospitals; $150,000;

• Maine Department of Human Services; $136,968;

• Maryland Office of Primary Care and Rural Health; $150,000;

• Massachusetts Department of Public Health; $150,000;

• Michigan Department of Community Health; $58,916;

• Minnesota Department of Health; $150,000;

• Mississippi State Department of Health; $150,000;

• Missouri Department of Health and Senior Services; $150,000;

• Montana State University-Bozeman; $150,000;

• Nebraska Health and Human Services System; $150,000;

• Nevada Office of Sponsored Projects Administration; $150,000;

• New Hampshire Department of Health and Human Services; $150,000;

• New Jersey Department of Health and Senior Services; $150,000;

• New Mexico Department of Health, Public Health Division; $150,000;

• New York Department of Health, Research Inc.; $150,000;

• North Carolina Department of Health and Human Services; $150,000;

• North Dakota Medicine and Health Sciences; $150,000;

• Ohio, State of Department of Health; $140,831;

• Oklahoma Center for Health Sciences; $200,000;

• Oregon Health and Science University; $150,000;

• Pennsylvania State University; $150,000;

• Rhode Island Department of Health, Office of Rural Health; $85,000;

• South Carolina State Office of Rural Health; $150,000;

• South Dakota Department of Health; $150,000;

• Tennessee State Department of Health; $150,000;

• Texas, Office of Rural Community Affairs; $150,000;

• Utah Department of Health; $150,000;

• Vermont State Department of Health; $150,000;

• Virginia Department of Health; $150,000;

• Washington State Office of Rural Health; $150,000;

• West Virginia Department of Health and Human Resources; $150,000;

• Wisconsin, Office of Rural Health-Board of Regents, University Wisconsin System; $150,000;

• Wyoming Department of Health; $62,028;

FOR FURTHER INFORMATION CONTACT: Jennifer Riggle, Director, State Office of Rural Health, Office of Rural Health Policy, HRSA, 5600 Fishers Lane, Room 9A-55, Rockville, MD 20857, (301)-443-0835.

Dated: July 17, 2003.
Elizabeth M. Duke,
Administrator.

[FR Doc. 03-18763 Filed 7-23-03; 8:45 am]

BILLING CODE 4165-15-P